DEPARTMENT OF HEALTH AND HUMAN SERVICES

Centers for Disease Control and Prevention

[30Day-26-0666]

Agency Forms Undergoing Paperwork Reduction Act Review

In accordance with the Paperwork Reduction Act of 1995, the Centers for Disease Control and Prevention (CDC) has submitted the information collection request titled “National Healthcare Safety Network (NHSN)” to the Office of Management and Budget (OMB) for review and approval. CDC previously published a “Proposed Data Collection Submitted for Public Comment and Recommendations” notice on July 18, 2025 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Healthcare Safety Network (NHSN) (OMB Control No. 0920-0666—Exp. 12/31/2027)—Revision—National Center for Emerging Zoonotic and Infectious Diseases (NCEZID), Centers for Disease Control and Prevention (CDC).

Background and Brief Description

The Division of Healthcare Quality Promotion (DHQP), National Center for Emerging and Zoonotic Infectious Diseases (NCEZID), Centers for Disease Control and Prevention (CDC) collects data from healthcare facilities in the National Healthcare Safety Network (NHSN) under OMB Control No. 0920-0666. NHSN provides facilities, health departments, states, regions, and the nation with data necessary to identify problem areas, measure the progress of prevention efforts, and ultimately eliminate healthcare-associated infections (HAIs) nationwide. NHSN also allows healthcare facilities to track blood safety errors and various HAI prevention practice methods such as healthcare personnel influenza vaccine status and corresponding infection control adherence rates.

Enrollment in NHSN has continuously increased, with over 37,000 actively reporting healthcare facilities across the U.S. Of the total enrolled healthcare facilities, there are over 6,000 acute care facilities; 8,400 dialysis facilities; 600 long-term acute care facilities; 400 inpatient rehabilitation facilities; 800 inpatient psychiatric facilities; nearly 20,000 long-term care facilities; and 6,000 ambulatory surgery facilities. NHSN currently has eight components: Patient Safety (PS), Healthcare Personnel Safety (HPS), Biovigilance (BV), Long-Term Care Facility (LTCF), Outpatient Procedure (OPC), Dialysis Component, Neonatal Component, and Medication Safety Component.

This Revision includes proposed changes to 68 approved and five new NHSN data collections. CDC requests OMB approval for an estimated 3,836,550 annual burden hours. There are no additional costs to respondents other than their time to participate.

Estimated Annualized Burden Hours
Form No. & name | Number of respondents | Number of responses per respondent | Average burden per response (min/hour)
57.100 NHSN Registration Form | 2,000 | 1 | 5/60
57.101 Facility Contact Information | 2,000 | 1 | 10/60
57.102 NHSN Help Desk Customer Satisfaction Survey | 26,400 | 1 | 2/60
57.103 Patient Safety Component—Annual Hospital Survey | 5,400 | 1 | 138/60
57.104 NHSN Facility Administrator Change Request Form | 800 | 1 | 5/60
57.105 Group Contact Information | 1,000 | 1 | 5/60
57.106 Patient Safety Monthly Reporting Plan | 7,821 | 12 | 15/60
57.108 Primary Bloodstream Infection (BSI) | 6,000 | 12 | 43/60
57.111 Pneumonia (PNEU) | 1,800 | 2 | 33/60
57.112 Ventilator-Associated Event (VAE) | 5,463 | 8 | 31/60
57.113 Pediatric Ventilator-Associated Event (PedVAE) | 334 | 1 | 33/60
57.114 Urinary Tract Infection (UTI) | 6,000 | 12 | 25/60
57.115 Custom Event | 600 | 91 | 38/60
57.116 Denominators for Neonatal Intensive Care Unit (NICU) | 1,100 | 12 | 240/60
57.117 Denominators for Specialty Care Area (SCA)/Oncology (ONC) | 500 | 12 | 300/60
57.118 Denominators for Intensive Care Unit (ICU)/Other locations (not NICU or SCA) | 5,500 | 60 | 300/60
57.120 Surgical Site Infection (SSI) | 3,800 | 12 | 13/60
57.121 Denominator for Procedure | 3,800 | 12 | 13/60
57.122 HAI Progress Report State Health Department Survey | 55 | 1 | 50/60
57.123 Antimicrobial Use and Resistance (AUR)-Microbiology Data Electronic Upload Specification Tables—Initial Set-up | 1,200 | 1 | 4,800/60
57.123 Antimicrobial Use and Resistance (AUR)-Microbiology Data Electronic Upload Specification Tables—Yearly Maintenance | 4,300 | 2 | 120/60
57.123 Antimicrobial Use and Resistance (AUR)-Microbiology Data Electronic Upload Specification Tables—Monthly | 5,500 | 12 | 5/60
57.124 Antimicrobial Use and Resistance (AUR)-Pharmacy Data Electronic Upload Specification Tables—Initial Set-up | 800 | 1 | 2,400/60
57.124 Antimicrobial Use and Resistance (AUR)-Pharmacy Data Electronic Upload Specification Tables—Yearly Maintenance | 4,700 | 1 | 120/60
57.124 Antimicrobial Use and Resistance (AUR)-Pharmacy Data Electronic Upload Specification Tables—Monthly | 5,500 | 12 | 5/60
57.126 MDRO or CDI Infection Form | 720 | 12 | 33/60
57.127 MDRO and CDI Prevention Process and Outcome Measures Monthly Monitoring | 5,500 | 29 | 15/60
57.128 Laboratory-identified MDRO or CDI Event | 4,800 | 12 | 23/60
57.129 Adult Sepsis | 50 | 12 | 28/60
57.130 Infectious Diseases of Public Health Concern | 3,650 | 365 | 35/60
57.132 Patient Safety Component Digital Measure Reporting Plan (HOB, HT-CDI, Adult Sepsis, RPS, HYPO, LOSMEN)—IT Initial Set up | 4,980 | 1 | 1,500/60
57.132 Patient Safety Component Digital Measure Reporting Plan (HOB, HT-CDI, Adult Sepsis, RPS, HYPO, LOSMEN )—IT Yearly Maintenance | 20 | 1 | 1,200/60
57.132 Patient Safety Component Digistal Measure Reporting Plan (RPS ONLY Daily FHIR Submission)—IT Intial Set Up | 495 | 1 | 1,000/60
57.132 Patient Safety Component Digistal Measure Reporting Plan (RPS ONLY Daily FHIR Submission)—Yearly Maintenance | 5 | 1 | 800/60
57.132 Patient Safety Component Digital Measure Reporting Plan (HOB, HT-CDI, Adult Sepsis, RPS, HYPO, LOSMEN, Claims Data)—Infection Preventionist | 5,500 | 1 | 10/60
57.132 Patient Safety Digital Reporting Plan (RPS CSV) | 25 | 365 | 2/60
57.133 Patient Safety Attestation | 3,500 | 1 | 10/60
57.137 Long-Term Care Facility Component—Annual Facility Survey | 6,270 | 1 | 135/60
57.138 Laboratory-identified MDRO or CDI Event for LTCF | 286 | 24 | 22/60
57.139 MDRO and CDI Prevention Process Measures Monthly Monitoring for LTCF | 738 | 12 | 10/60
57.140 Urinary Tract Infection (UTI) for LTCF | 373 | 24 | 37/60
57.141 Monthly Reporting Plan for LTCF | 546 | 12 | 5/60
57.142 Denominators for LTCF Locations | 724 | 12 | 35/60
57.143 Prevention Process Measures Monthly Monitoring for LTCF | 434 | 12 | 5/60
57.145 Long Term Care Antimicrobial Use (LTC-AU) Module—Digital Upload Specification Tables | 16,500 | 12 | 5/60
57.150 LTAC Annual Survey | 395 | 1 | 100/60
57.151 Rehab Annual Survey | 395 | 1 | 84/60
57.211 Weekly Healthcare Personnel Influenza Vaccination Cumulative Summary for Non-Long-Term Care Facilities—Manual | 117 | 12 | 25/60
57.214 Annual Healthcare Personnel Influenza Vaccination Summary—Manual | 22,440 | 1 | 120/60
57.214 Annual Healthcare Personnel Influenza Vaccination Summary—.CSV | 1,920 | 1 | 55/60
57.215 Seasonal Survey on Influenza Vaccination Programs for Healthcare Personnel | 15,426 | 1 | 45/60
57.300 Hemovigilance Module Annual Survey | 57 | 1 | 30/60
57.301 Adverse Reaction Investigaton Form | 47 | 5 | 20/60
57.302 Transfusion Transmitted Infections (TTI) Rapid Alert Form | 3 | 1 | 5/60
57.303 Transfusion Transmitted Infections (TTI) Investigation Form | 3 | 1 | 60/60
57.400 Outpatient Procedure Component—Annual Ambulatory Surgery Center Survey | 350 | 1 | 10/60
57.401 Outpatient Procedure Component—Monthly Reporting Plan | 350 | 12 | 10/60
57.402 Outpatient Procedure Component Same Day Outcome Measures | 50 | 1 | 42/60
57.403 Outpatient Procedure Component—Denominators for Same Day Outcome Measures | 50 | 400 | 20/60
57.404 Outpatient Procedure Component—SSI Denominator | 300 | 100 | 22/60
57.405 Outpatient Procedure Component—Surgical Site (SSI) Event | 300 | 36 | 39/60
57.408 Monthly Survey Patient Days & Nurse Staffing | 2,500 | 12 | 300/60
57.500 Outpatient Dialysis Center Practices Survey | 6,900 | 1 | 149/60
57.501 Dialysis Monthly Reporting Plan | 7,400 | 12 | 5/60
57.502 Dialysis Event | 7,400 | 30 | 50/60
57.503 Denominator for Outpatient Dialysis | 7,400 | 12 | 10/60
57.504 Prevention Process Measures Monthly Monitoring for Dialysis | 1,730 | 12 | 60/60
57.507 Home Dialysis Center Practices Survey | 550 | 1 | 65/60
57.600 Neonatal Component Late Onset Sepsis Meningitis (LOSMEN) Module FHIR/CDA Digital Measure Reporting Plan—Infection Preventionist | 5,500 | 12 | 2/60
57.601 Late Onset Sepsis/Meningitis Denominator Form: Late Onset Sepsis/Meningitis Denominator Form: Data Table for monthly electronic upload | 300 | 6 | 5/60
57.602 Late Onset Sepsis/Meningitis Event Form: Data Table for Monthly Electronic Upload | 300 | 6 | 5/60
57.700 Medication Safety—Digital Measure Reporting Plan (HYPO)—Infection Preventionist | 5,500 | 1 | 5/60
57.701 Medication Safety Component—Annual Hospital Survey | 10 | 1 | 150/60
57.800 Claims Data Upload | 5,500 | 12 | 5/60
57.800 Claims Data—Initial IT Set-Up | 5,500 | 1 | 45/60
57.801 External Validation Summary Report | 20 | 2 | 15/60
57.802 Bed Capacity—IT Initial Set Up | 25 | 1 | 20/60
57.803 Daily Facility Operating Status | 3,826 | 730 | 5/60
57.900 NHSN FHIR digital Quality Measures (dQMs) Facility Technical Assessment for NHSNLink UI | 50 | 1 | 25/60
57.901 NHSNCoLab Pilot Site Demographics | 21 | 1 | 25/60
57.902 NHSNCoLab Pilot Site Technical Assessment | 21 | 1 | 25/60

Jeffrey M. Zirger,
Lead, Information Collection Review Office, Office of Public Health Ethics and Regulations, Office of Science, Centers for Disease Control and Prevention.

[FR Doc. 2026-00998 Filed 1-16-26; 8:45 am]

BILLING CODE 4163-18-P